DEPARTMENT OF THE INTERIOR

Fish and Wildlife Service

Lake Umbagog National Wildlife Refuge

AGENCY: Fish and Wildlife Service, Interior.

ACTION: Notice of availability of draft comprehensive conservation plan and environmental impact statement for Lake Umbagog National Wildlife Refuge; request for comments.

SUMMARY: The Fish and Wildlife Service (Service) announces the availability for review of the Draft Comprehensive Conservation Plan and Environmental Impact Statement for Lake Umbagog National Wildlife Refuge (NWR). The Service prepared the Draft CCP/EIS in compliance with the National Environmental Policy Act of 1969 and the National Wildlife Refuge System Administration Act of 1966, as amended by the National Wildlife Refuge System Improvement Act of 1997. We request public comments.

DATES: The Draft CCP/EIS will be available for public review and comment until close of business on August 20, 2007.

ADDRESSES: You may obtain copies of the draft CCP/EIS on compact diskette or in print by writing to Nancy McGarigal, Refuge Planner, U.S. Fish and Wildlife Service, 300 Westgate Center Drive, Hadley, Massachusetts 01035, or by electronic mail at northeastplanning@fws.gov. You may also view the draft on the Web at http://library.fws.gov/ccps.htm. We plan to host public meetings in Errol, Berlin, and Concord, New Hampshire, and in Bethel and Augusta, Maine. We will post the details of each meeting approximately 2 weeks in advance, via our project mailing list, in local papers, and at the refuge.

FOR FURTHER INFORMATION CONTACT: For more information, or to get on the project mailing list, contact Nancy McGarigal, Refuge Planner, at the address above, by telephone at 413-253-8562, by fax at 413-253-8468, or by e-mail at Nancy_McGarigal@fws.gov.

SUPPLEMENTARY INFORMATION: The National Wildlife Refuge System Administration Act of 1966, as amended by the National Wildlife Refuge System Improvement Act of 1997 (16 U.S.C. 668dd et seq.), requires the Service to develop a CCP for each refuge. The purpose of developing a CCP is to provide refuge managers with a 15-year strategy for achieving refuge purposes and contributing to the mission of the National Wildlife Refuge System (NWRS), in conformance with the sound principles of fish and wildlife science, natural resources conservation, legal mandates, and Service policies. In addition to outlining broad management direction on conserving wildlife and habitats, CCPs identify wildlife-dependent recreational opportunities available to the public, including opportunities for hunting, fishing, wildlife observation and photography, and environmental interpretation and education. The Service will review and update each CCP at least once every 15 years, in accordance with the National Wildlife Refuge System Improvement Act of 1997 and the National Environmental Policy Act of 1969.

We established Lake Umbagog NWR with its first land purchase in 1992. Its purposes are to provide long-term protection for unique wetlands, threatened and endangered species and migratory birds of conservation concern, and sustain regionally significant concentrations of wildlife.

This 20,513-acre refuge lies in Coos County, New Hampshire, and Oxford County, Maine. It contains widely diverse types of upland and wetland habitat around the 8,500-acre Umbagog Lake. Since establishing the refuge, we have focused primarily on conserving lands within its approved boundary; monitoring the occupancy and productivity of common loon, bald eagle, and osprey nesting sites, and protecting them from human disturbance; conducting baseline biological inventories; and providing wildlife-dependent recreational opportunities.

The Draft CCP/EIS evaluates three alternatives, which address 18 major issues identified during the planning process. Several sources generated those issues: The public, State or Federal agencies, other Service programs, and our planning team. The draft describes those issues in detail. Highlights of the alternatives follow.

Alternative A (Current Management): This alternative is the “No Action” alternative required by the National Environmental Policy Act of 1969 (42 U.S.C. 4321-4347, as amended). Alternative A defines our current management activities, including those planned, funded, or under way, and serves as the baseline against which to compare the other two action alternatives. It would maintain our present levels of approved refuge staffing and the biological and visitor programs now in place. Our biological program would continue its passive habitat management. That is, the program would focus on protecting and monitoring key resources and conducting baseline inventories to improve our knowledge of the ecosystem. We would not manage our habitats actively, (e.g., by conducting silvicultural operations) under this alternative. However, we would continue such projects as monitoring and protecting common loon, bald eagle, and osprey nests, and biological inventories for breeding and migrating waterfowl, land birds, rare plant communities, and amphibians. If funding were available, we would conduct other projects, such as mapping vernal pools and surveying for small mammals. We would continue to allow research by others on refuge lands, as long as it contributes to our knowledge of refuge resources.

Regarding our visitor services programs, we would continue to conduct hunting, wildlife observation and photography, and limited environmental education and interpretation programs as staffing and funding allow. We would continue planning to extend our only trail, the Magalloway River Trail, and make it an accessible, self-guided, interpretive trail. We would also continue to allow snowmobiling on designated trails that are part of an established trail system, and allow remote lake camping at 12 sites, and river camping at 2 sites under a reservation system administered for us by the New Hampshire Division of State Parks and Recreation. We would continue our annual community outreach by participating in the “Umbagog Wildlife Festival” and “Take Me Fishing” events. Finally, we would continue to pursue the acquisition from willing sellers of the 6,392 acres of important wildlife habitat that lies within our currently approved acquisition boundary.

Alternative B (the Service-preferred alternative): This alternative represents the combination of actions we believe most effectively achieves the purposes and goals of the refuge and address the major issues. It builds on the programs identified under current management. Funding and staffing would need to increase to support adequately the program expansions we propose. We would construct a new administrative headquarters and visitor contact facility in a location more centrally located and better suited for administrating refuge resources. The protection and restoration of wetlands would continue to be our highest priority biological program, followed by forest management in upland habitats to benefit refuge focal species. Those include species that national and regional plans identify as conservation priorities. We would also expand our program to monitor the human disturbance of resources of concern and evaluate wildlife responses to refuge management strategies.

We would adapt those strategies to those results to ensure full resource protection. We would also manage furbearers.

We would expand three of our existing priority public use programs, and formally open the refuge for fishing. We would develop new infrastructure to facilitate wildlife observation, nature photography, and interpretation. Those include the construction of several new walking trails with observation platforms, interpretative signs, and roadside areas for viewing wildlife. Our hunting program would not change. We would continue to allow remote lake camping at 12 sites on refuge lands, but would close and restore the 2 sites on the river. Snowmobiling would continue on existing, designated trails, but we would not expand it.

We would enhance local and regional partnerships consistent with our mission. Those would include visitor contact facilities, regional wildlife trails and auto-tours, land conservation, and wildlife habitat management. We would pursue the establishment of a Land Management Research Demonstration (LMRD) site on the refuge to promote research and development of applied management practices, primarily for the benefit of refuge focal species and other resources of concern in the Northern Forest.

In addition to our acquisition of land in Alternative A, Alternative B includes expanding the refuge by 49,718 acres by combining 65 percent fee-simple acquisition with 35 percent conservation easement acquisition from willing sellers. All of those lands are contiguous with refuge land and undeveloped. They consist of high-quality, important wildlife habitat in an amount and distribution to provide us with management flexibility in achieving refuge habitat goals and objectives. Collectively, they would form a land base that affords vital links to other conserved lands in the Upper Androscoggin River watershed. Finally, they would fully complement and enhance the Federal, State and private conservation partnerships actively involved in protecting this unique ecosystem.

Alternative C: This alternative proposes to establish and maintain the ecological integrity of natural communities on the refuge and surrounding landscape without specific emphasis or concern for any particular species or species groups. As in Alternative B, funding and staffing would increase to support the program expansions we propose, and we would construct a new administrative headquarters and visitor contact facility. Our biological program would build off the passive habitat management in Alternative A to include some habitat manipulations to create or hasten the development of mature forest structural conditions shaped by natural disturbances. Much of that would include upland forest management to diversify the age and structure of the young, even-aged stands created by past commercial uses of refuge forestland.

We would offer the same variety of programs as in Alternative B. However, we would promote more dispersed, low-density, undeveloped backcountry experiences. The only new infrastructure developments would be located at the new administrative facility. If necessary in order to promote a back-country experience in our hunting and fishing programs, we would develop a permit system, limit access, and designate hunting and fishing areas. We would continue to allow snowmobiling and remote lake camping as in Alternative B. However, we would place additional restrictions on the activities allowed at campsites to promote low-density management.

Alternative C would also include the LMRD program and furbearer management. It also builds off the proposal in Alternative A to include a refuge expansion of 76,304 acres, acquired in fee simple from willing sellers. We designed this proposal to protect and conserve large, contiguous blocks of habitat exceeding 25,000 acres and connect them to other conserved lands in the Upper Androscoggin River watershed. As in Alternative B, those expansion lands consist of high-quality, important wildlife habitat; occur in an amount and distribution that provide us the management flexibility to achieve refuge habitat goals and objectives; and, fully complement and enhance the land management of adjacent conservation partners.

After we evaluate and respond to public comments on this Draft CCP/EIS, we will prepare a Final CCP/EIS and announce its availability in the Federal Register for a 30-day review period. After this period, we will prepare a Record of Decision (ROD), which is the decision document that certifies that the selected alternative meets all agency compliance requirements and achieves refuge purposes and the NWRS mission. The Regional Director signs the final CCP and ROD, which, if approved by the Director, will include the decision to expand the refuge as detailed in the Land Protection Plan.

Dated: July 18, 2006.
Richard O. Bennett,
Acting Regional Director, Region 5, U.S. Fish and Wildlife Service, Hadley, Massachusetts.

This document was received at the Office of the Federal Register on June 26, 2007.

[FR Doc. E7-12626 Filed 7-5-07; 8:45 am]

BILLING CODE 4310-55-P